DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of persons whose property and interests in property have been unblocked and who have been removed from the SDN List.

DATES: See SUPPLEMENTARY INFORMATION section for applicable date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On June 21, 2023, OFAC determined that the property and interests in property subject to U.S. jurisdiction of the following persons are blocked under the relevant sanctions authority listed below.

Entities

1. MINISTRY OF DEFENSE OF BURMA (a.k.a. MINISTRY OF DEFENCE OF BURMA; a.k.a. TATMADAW), Building 24, Nay Pyi Taw, Burma; Organization Established Date 01 Aug 1937; Target Type Government Entity [BURMA-EO14014].

Designated pursuant to section 1(a)(iv) of Executive Order 14014 of February 10, 2021, “Blocking Property With Respect to the Situation in Burma”, 86 FR 9429 (“E.O. 14014”) for being a political subdivision, agency, or instrumentality of the Government of Burma.

2. MYANMA FOREIGN TRADE BANK (a.k.a. MYANMAR FOREIGN TRADE BANK; a.k.a. “MFTB”), 80-86 Maha Bandoola Garden Street, Yangon, Burma; SWIFT/BIC MFTBMMMY; Organization Established Date 1976; Target Type Financial Institution [BURMA-EO14014].

Designated pursuant to section 1(a)(iv) of E.O. 14014 for being a political subdivision, agency, or instrumentality of the Government of Burma.

3. MYANMA INVESTMENT AND COMMERICAL BANK (a.k.a. MYANMAR INVESTMENT AND COMMERCIAL BANK; a.k.a. “MICB”), 170/176 Bo Aung Kyaw Street, Botataung Township, Yangon, Burma; 170/176 Bo Aung Gyaw Street, Yangong, Burma; SWIFT/BIC MICBMMMY; Organization Established Date 1990; Target Type Financial Institution [BURMA-EO14014].

Designated pursuant to section 1(a)(iv) of E.O. 14014 for being a political subdivision, agency, or instrumentality of the Government of Burma.

B. OFAC previously determined on January 31, 2023 that the individual listed below met one or more of the criteria under E.O. 14014. On June 21, 2023, the Director of OFAC determined that circumstances no longer warrant the inclusion of the following individual on the SDN List under this authority. These persons are no longer subject to the blocking provisions of Section 1(a)(iii)(B) of E.O. 14014.

Individual

1. MIN, Than, Burma; DOB 23 Nov 1956; POB Myinmu, Burma; Gender Male; National ID No. 12 LAMANA 062661 (Burma) (individual) [BURMA-EO14014].

Authority: E.O. 14014, 86 FR 9429.

Dated: June 21, 2023.
Andrea M. Gacki,
Director, Office of Foreign Assets Control, U.S. Department of the Treasury.

[FR Doc. 2023-13515 Filed 6-23-23; 8:45 am]

BILLING CODE 4810-AL-P